DEPARTMENT OF THE INTERIOR

National Park Service

Notice of Realty Action: Proposed Exchange of Federally-Owned Lands for Privately-Owned Lands Located in Chelan County, WA

The Federally-owned land described below, which was acquired by the National Park Service, has been determined to be suitable for disposal by exchange. The authority for this exchange is the Act of July 15, 1968 (16 U.S.C. 460l-22(b)) and the Act of October 2, 1968 (16 U.S.C. 90), as amended.

The selected Federal land is within the boundary of Lake Chelan National Recreation Area (NRA). This land was identified as suitable for disposal by exchange in the Lake Chelan NRA General Management Plan, accompanying Environmental Impact Statement, and Land Protection Plan. Furthermore, an Environmental Assessment was prepared to evaluate potential consequences specifically associated with this proposed exchange, including surveys for cultural resources and threatened/endangered species, resulting in a Finding of No Significant Impact. These reports are available upon request.

Fee ownership of the Federally-owned property to be exchanged: LACH Tract No. 05-131 is a 7.15+/− acre parcel of land acquired by the United States of America by deeds recorded in Deed Book 700 on Pages 724-725 and Book 701 on Pages 1720-1721 at the Chelan County Auditor's Office.

Conveyance of the land by the United States of America will be by Quitclaim Deed and include certain land use restrictions to prohibit inappropriate use and development.

In exchange for the lands identified in Paragraph I, the United States of America will acquire a 5+/− acre parcel of land, currently owned by Mr. and Mrs. Cragg Courtney, lying within the boundary of Lake Chelan NRA (LACH Tract No. 04-103). The private lands are being acquired in fee simple with no reservations, subject only to rights of way and easements of record. Acquisition of these private lands will eliminate the risk of inappropriate development along a sensitive riparian area of the Stehekin River upon completion of the exchange. The exchange will allow future private development in a more suitable location with minimal impacts to visitor services, natural resources, and scenic values in the national recreation area.

The value of the proposed properties to be exchanged has been determined by current fair market value appraisals to be equal in value. Both properties are unimproved. There is no anticipated increase in maintenance or operational costs as a result of the exchange.

Detailed information concerning this exchange including precise legal descriptions, Land Protection Plan, Environmental Assessment, and Finding of No Significant Impact are available from: Superintendent, North Cascades National Park Service Complex, 810 State Route 20, Sedro Woolley, Washington 98284; telephone (360) 856-5700.

For a period of 45 calendar days from the date of this notice, interested parties may submit written comments to the above address. Adverse comments will be evaluated and this action may be modified or vacated accordingly. In the absence of any action to modify or vacate, this realty action will become the final determination of the Department of Interior.

Dated: June 2, 2004.
Jonathan B. Jarvis,
Regional Director, Pacific West Region.

[FR Doc. 04-19790 Filed 8-30-04; 8:45 am]

BILLING CODE 4312-52-P